DEPARTMENT OF ENERGY

Federal Energy Regulatory Commission

[Docket No. RP96-129-000 (Phase II)]

Trunkline Gas Company; Notice of Informal Settlement Conference

October 18, 2000.

Take notice that an informal settlement conference will be convened in these proceedings on November 1, 2000 commencing at 10:00 a.m. at the offices of the Federal Energy Regulatory Commission, 888 First Street, NE., Washington, DC 20426, for the purpose of exploring the possible settlement of the issues in this proceeding.

Any party, as defined by 18 CFR 385.102(c), or any participant as defined by 18 CFR 385.102(b), is invited to attend. Persons wishing to become a party must move to intervene and receive intervenor status pursuant to the Commission's regulations (18 CFR 385.214).

For additional information, contact Marc G. Denkinger (202) 208-2215 or Lorna J. Hadlock (202) 208-0737.

David P. Boergers,
Secretary.

[FR Doc. 00-27274 Filed 10-23-00; 8:45 am]

BILLING CODE 6717-01-M